ENVIRONMENTAL PROTECTION AGENCY

[EPA-HQ-OLEM-2020-0259; FRL-10010-24-OLEM]

Proposed Information Collection Request; Comment Request; Collection of Information on Anaerobic Digestion Facilities Processing Wasted Food To Support EPA's Sustainable Materials Management Program and Sustainable Management of Food Efforts (Revision)

AGENCY: Environmental Protection Agency (EPA).

ACTION: Notice.

SUMMARY: The Environmental Protection Agency (EPA or the Agency) is planning to submit an information collection request (ICR), “Collection of Information on Anaerobic Digestion Facilities Processing Wasted Food to Support EPA's Sustainable Materials Management Program and Sustainable Management of Food Efforts (Revision)” (EPA ICR No. 2533.04, OMB Control No. 2050-0217) to the Office of Management and Budget (OMB) for review and approval in accordance with the Paperwork Reduction Act. Before doing so, EPA is soliciting public comments on specific aspects of the proposed information collection as described below. This is a proposed renewal of a previous ICR, which is currently approved through September 30, 2020. An agency may not conduct or sponsor, and a person is not required to respond to, a collection of information unless it displays a currently valid OMB control number.

DATES: Comments must be submitted on or before August 4, 2020.

ADDRESSES: Submit your comments, referencing Docket ID No. EPA-HQ-OLEM-2020-0259, online using www.regulations.gov (our preferred method), by email to oira_submission@omb.eop.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Chris Carusiello, U.S. Environmental Protection Agency, Mail Code 5306P, Environmental Protection Agency, 1200 Pennsylvania Ave. NW, Washington, DC 20460; telephone number: (703) 308-8757; fax number: (703) 308-0522; email address: Carusiello.Chris@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act (PRA), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Sustainable Management of Food (SMF) is a systematic approach that seeks to reduce wasted food and its associated impacts over the entire lifecycle of food. The lifecycle of food includes use of natural resources, manufacturing, sales, and consumption and ends with decisions on recovery or final disposal. Diversion of food waste from landfills is a critical component of this effort. To effectively divert food waste from landfills, sufficient capacity to process the diverted materials is required, much of which is provided by anaerobic digestion facilities. Knowledge of organics recycling capacity is needed to facilitate food waste diversion.

EPA's food recovery hierarchy prioritizes potential actions to prevent and divert wasted food. According to the hierarchy, processing wasted food via anaerobic digestion is a more desirable option than landfilling or incineration because it creates more benefits for the environment, society, and the economy. Anaerobic digestion of food waste and other organic materials generates renewable energy, reduces methane emissions to the atmosphere, and provides opportunities to improve soil health through the production of soil amendments. The SMF work supports these efforts by educating state and local governments and communities about the benefits of wasted food diversion. The SMF work also builds partnerships with state agencies and other strategic partners interested in developing organics recycling capacity and provides tools to assist organizations in developing anaerobic digestion (AD) projects.

The nationwide collection of data about AD facilities processing food waste began in 2017 with a survey of all known AD facilities under the currently approved ICR. EPA published the first annual report of findings based on these data in July 2018, and second in September 2019. EPA is renewing this ICR in order to continue to monitor growth and evaluate trends in the capacity for processing of food waste and the amount of food waste being processed via AD in the United States.

Data will be collected using electronic surveys that will be distributed to respondents by email and will be available on EPA's AD website. Participation in this data collection effort is voluntary. Respondents are not required to reveal confidential business information.

Form Numbers: EPA Form 6700-03, EPA Form 6700-04, EPA Form 6700-05.

Respondents/affected entities: Project Developers, Project Owners or Plant Operators, and Livestock Farmers.

Respondent's obligation to respond: Voluntary.

Estimated number of respondents: 254 (total).

Frequency of response: Annually.

Total estimated burden: 127 hours (per year). Burden is defined at 5 CFR 1320.03(b).

Total estimated cost: $7,615 (per year), includes $0 annualized capital or operation & maintenance costs.

Changes in Estimates: The overall burden has slightly decreased from the original ICR. For this renewal, some questions have been revised for clarity and some have been streamlined. There is no change in hours from the total estimated respondent burden compared with the ICR currently approved by OMB.

Dated: May 29, 2020.
Donna Salyer,
Acting Director, Office of Resource Conservation and Recovery.

[FR Doc. 2020-12154 Filed 6-4-20; 8:45 am]

BILLING CODE 6560-50-P